DEPARTMENT OF DEFENSE

Department of the Air Force

Notice of Intent To Perform an Environmental Assessment for Increased Depleted Uranium Use at Nevada Test and Training Range, Nevada

AGENCY: Department of the Air Force (AF), Air Combat Command (ACC).

ACTION: Notice of intent to prepare an Environmental Assessment (EA) for the Increased Depleted Uranium (DU) Use at Nevada Test and Training Range (NTTR).

Authority: 42 United States Code §§ 4321-4347 40 Code of Federal Regulations (CFR) parts 1500-1508.

SUMMARY: The United States Air Force is issuing this Notice of Intent (NOI) to announce that it is conducting an environmental assessment for the proposed action for increasing the annual number of depleted uranium (DU) rounds fired by A-10 aircraft using the 30-millimeter GAU-8 Gatling gun at the Nevada Test and Training Range (NTTR), Range 63, Target 63-10. This NOI describes the Air Force's proposed scoping process and identifies the Air Force's point of contact. Target 63-10 is the Air Force's only air-to-ground target for testing and training with DU rounds.

The proposed assessment will be prepared in compliance with the National Environmental Policy Act (NEPA) of 1969 (42 U.S.C. 4321-4347), the Council on Environmental Quality NEPA regulations (40 CFR parts 1500-1508), and Air Force's Environmental Impact Analysis Process (EIAP) (Air Force Instruction 32-7061 as promulgated at 32 CFR part 989) to determine the potential environmental effects of increasing DU rounds at the NTTR.

As part of the proposal, the Air Force will analyze three alternatives: A, B, and C. Alternative A (proposed action) would increase the annual use of 30-mm DU rounds in a combat mix (CM) from an existing 9,500 to 22,800 annually. CM contains armor-piercing incendiary (API) DU rounds mixed with high explosive incendiary (HEI) rounds in a 5 to 1 ratio. Alternative A would increase the annual use of DU rounds from 7,900 to 19,000 (and HEI rounds from 1,600 to 3,800) to provide the 422 Test and Evaluation Squadron (TES) and the 66 Weapons Squadron (WPS) graduates with sufficient DU rounds to accomplish essential testing and training requirements. Alternative B would enhance testing by increasing the use of CM to a total of 31,680 rounds (26,400 DU and 5,280 HEI) at Target 63-10. This alternative would meet test and training requirements and also allow additional testing by Tactics Development & Evaluation (TD&E) and Tactics Improvement Proposals (TIP). Alternative C (no-action) would reflect no change in current operations associated with Target 63-10 whereby 9,500 CM rounds (7,900 DU and 1,600 HEI) are deployed for test and training. This number (9,500) does not provide enough rounds for effective TES testing and WPS training.

DATES: The Air Force will conduct two scoping meetings to receive public input on alternatives, concerns, and issues to be addressed in the EA and to solicit public input concerning the scope of the proposed action and alternatives. The schedule and locations of the scoping meetings are as follows: January 31, 2006: 6:30 p.m.-8:30 p.m., Sunrise Library, 5400 Harris Avenue, Las Vegas, Nevada and February 1, 2006: 6:30 p.m.-8:30 p.m., Indian Springs Community Center, 719 West Gretta Lane, Indian Springs, Nevada.

The Air Force will accept comments at any time during the scoping period. However, to ensure the Air Force considers relevant scoping issues in a timely fashion, all comments should be forwarded to the address below no later than March 1, 2006. If during the preparation of the EA, the Air Force concludes an Environmental Impact Statement (EIS) is warranted, comments received during this scoping period will be considered in the preparation of the EIS.

FOR FURTHER INFORMATION CONTACT: Mike Estrada, Nellis Air Force Base Office of Public Affairs, 4430 Grissom Avenue, Ste 107, Nellis AFB, NV 89191, (702) 652-2750.

Lawrence Shade,
Acting Air Force Federal Register Liaison Officer.

[FR Doc. E6-794 Filed 1-23-06; 8:45 am]

BILLING CODE 5001-06-P